FEDERAL COMMUNICATIONS COMMISSION

47 CFR Part 73

[DA 06-1451; MB Docket No. 05-229; RM-10780]

Radio Broadcasting Services; Madisonville and Rosebud, TX

AGENCY: Federal Communications Commission.

ACTION: Proposed rule; dismissal.

SUMMARY: This document, at the request of Petitioner Charles Crawford, dismisses his pending petition for rulemaking to allot Channel 267A at Rosebud, Texas. The dismissed proposal would have required a change in reference coordinates for Channel 267A at Madisonville, Texas, and the reclassification of Station KNUE(FM), Tyler, Texas to a Class C0 facility. The document therefore terminates this proceeding.

ADDRESSES: Federal Communications Commission, 445 12th Street, SW., Washington, DC 20554.

FOR FURTHER INFORMATION CONTACT: Helen McLean, Media Bureau (202) 418-2738.

SUPPLEMENTARY INFORMATION: This is a synopsis of the Commission's Report and Order, MB Docket No. 05-229, adopted July 12, 2006, and released July 14, 2006. The full text of this Commission decision is available for inspection and copying during normal business hours in the FCC Reference Information Center (Room CY-A257), 445 12th Street, SW., Washington, DC 20554. This document may also be purchased from the Commission's duplicating contractors, Best Copy and Printing, Inc., 445 12th Street, SW., Room CY-B402, Washington, DC 20554, telephone 1-800-378-3160 or http://www.BCPIWEB.com. This document is not subject to the Congressional Review Act. (The Commission, is, therefore, not required to submit a copy of this Report and Order to the Government Accountability Office, pursuant to the Congressional Review Act, see 5 U.S.C. Section 801(a)(1)(A) since this proposed rule is dismissed, herein.)

Federal Communications Commission.
John A. Karousos,
Assistant Chief, Audio Division, Media Bureau.

[FR Doc. E6-12319 Filed 8-1-06; 8:45 am]

BILLING CODE 6712-01-P